DEPARTMENT OF THE INTERIOR

National Park Service

[NPS-WASO-CR-25249; PPWOCRADI0, PCU00RP14.R50000 (188); OMB Control Number 1024-0018]

Agency Information Collection Activities; Nomination of Properties for Listing in the National Register of Historic Places

AGENCY: National Park Service, Interior.

ACTION: Notice of Information Collection; request for comment.

SUMMARY: In accordance with the Paperwork Reduction Act of 1995, the National Park Service is proposing to renew an information collection.

DATES: Interested persons are invited to submit comments on or before June 25, 2018.

ADDRESSES: Send your comments on the Information Collection Request (ICR) by mail to Tim Goddard, Information Collection Clearance Officer, National Park Service, 12201 Sunrise Valley Drive, MS-242, Reston, VA 20192 (mail); or by email to tim_goddard@nps.gov. Please reference OMB Control Number 1024-0018 in the subject line of your comments.

FOR FURTHER INFORMATION CONTACT: To request additional information about this ICR, contact Lisa Deline, Architectural Historian, National Register of Historic Places, by email at Lisa_Deline@nps.gov, or by telephone at 202-354-2239.

SUPPLEMENTARY INFORMATION: We, the National Park Service (NPS), in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: Nomination of Properties for Listing in the National Register of Historic Places.

OMB Control Number: 1024-0018.

Form Number: 10-900; 10-900a; 10-900b.

Type of Review: Extension of a currently approved collection.

Respondents/Affected Public: Individuals, Private Sector, and Government.

Total Estimated Number of Annual Responses: 2,564.

Total Estimated Number of Annual Burden Hours: 226,672.

Total Estimated Number of Annual Respondents: 2,564.

Estimated Completion Time per Response: Varies from 6 hours to 250 hours depending on activity.

Respondent's Obligation: Required to Obtain or Retain a Benefit.

Frequency of Collection: On occasion.

Total Estimated Annual Nonhour Burden Cost: $0.00.

Abstract: The National Register of Historic Places (National Register) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects, and listing in the National Register is required for eligibility for Federal rehabilitation tax incentives. The NPS administers the National Register. Nominations for listing historic properties come from State Historic Preservation Officers (SHPO), from Federal Preservation Officers (FPO), for properties owned or controlled by the United States Government, and from Tribal Historic Preservation Officers (THPO), for properties on tribal lands. Private individuals and organizations, local governments, and American Indian tribes often initiate this process and prepare the necessary documentation. Regulations at 36 CFR 60 and 63 establish the criteria and guidelines for listing and for determining the eligibility of properties. We use three forms for nominating properties and providing documentation for the proposed listings:

• NPS Form 10-900 (National Register of Historic Places Registration Form).

• NPS Form 10-900-a (National Register of Historic Places Continuation Sheet).

• NPS Form 10-900-b (National Register of Historic Places Multiple Property Documentation Form).

This Notice provides additional information regarding the packages submitted to the NPS and to expand the details for our burden from the original Notice published on January 28, 2015 (80 FR 4589). The following are the five types of package submissions the NPS receives from the SHPOs, FPOs, and/or THPOs with the respective burden estimates broken down by state in Section II below:

• 36 CFR 60 and 63, National Register of Historic Places Registration Nomination Form; Continuation Sheet; NR Multiple Property Submission Multiple Property Documentation Form Submitted to State & Local Gov't by Individuals or Households (Forms 10-900, 10-900-a and 10-900-b)—packages submitted by nonconsultants;

• Individual Nominations Submitted to State & Local Gov't by Consultants (Forms 10-900 and 10-900-a)—Packages submitted by paid consultants;

• District Nominations Submitted to State and Local Gov't by Consultants (Form 10-900 and 10-900-a)—Packages submitted by paid consultants;

• Nominations Submitted under Existing MPS Covers to State & Local Gov't by Consultants (Forms 10-900 and 10-900-a)—Packages submitted by paid consultants; and

• Newly Proposed MPS Cover Document Submitted to State & Local Gov't by Consultants (Forms 10-900-b and 10-900-a)—Packages submitted by paid consultants.

These forms and supporting documentation go to the State Historic Preservation Office (SHPO) of the State [or FPO, or THPO, respectively] where the property is located. The SHPO, FPO, or THPO can take one of several options: reject the property, ask for more information, (or in the case of the SHPO, list the property just with the State), or send the forms to us for listing on the National Register. An appeals process is also available to any person or local government for the failure or refusal of a nominating authority to nominate a property. Once the NPS receive the forms, the NPS conducts a similar review process.

Listing on the National Register provides formal recognition of a property's historical, architectural, or archeological significance based on national standards used by every State. The listing places no obligations on private property owners, and there are no restrictions on the use, treatment, transfer, or disposition of private property.

The authorities for this action are the 36 CFR 60 and 63 and the Paperwork Reduction Act of 1995 (44 U.S.C. 3501, et seq.).

Tim Goddard,
Information Collection Clearance Officer, National Park Service.

[FR Doc. 2018-08457 Filed 4-23-18; 8:45 am]

BILLING CODE 4312-52-P